DEPARTMENT OF DEFENSE

Department of the Air Force

[Docket ID: USAF-2023-HQ-0016]

Proposed Collection; Comment Request

AGENCY: Department of the Air Force, Department of Defense (DoD).

ACTION: 60-Day information collection notice.

SUMMARY: In compliance with the Paperwork Reduction Act of 1995, the United States Air Force (USAF) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 20, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to USAF Information Collections Office, 1800 USAF Pentagon, Suite 4C146, Washington, DC 20330, ATTN: Ms. Mia Day, or call 703-697-4593.

SUPPLEMENTARY INFORMATION:

Title; Associated Form; and OMB Number: Air Force Recruiting Information Support System—Total Force (AFRISS-TF); OMB Control Number 0701-0150.

Needs and Uses: Recruiting requires the collection of specific information on prospective USAF, Air National Guard, and Air Force Reserve Command enlistees, officers, and health profession personnel entering into duty. The information is used to create the initial personnel record that is used to prescreen and qualify enlistees, line officers, and health professionals fit for service and ultimately induction into one of the three USAF commands. The information is also collected to process security clearances for those individuals requiring clearances for sensitive and classified positions. The respondents are recruiting applicants of the USAF who may seek more information or request copies of their personal information. The collection instrument is a list of questions asked by the recruiter that cannot be found on the SF-86; information taken from the SF-86 can complete the rest of the recruit's application. Collections instruments are completed by applicants and recruiters into the system of record as applicable to their recruiting and application purposes. All completed instruments of collection reside in the system of record which has safeguards in place to protect privacy information. The result of successful information collection is the successful accession of an applicant in the USAF and the safe keeping of said applicant's personal information.

Affected Public: Individuals or households.

Annual Burden Hours: 25,000.

Number of Respondents: 100,000.

Responses per Respondent: 1.

Annual Responses: 100,000.

Average Burden per Response: 15 minutes.

Frequency: On occasion.

Dated: December 15, 2023.
Aaron T. Siegel,
Alternate OSD Federal Register Liaison Officer, Department of Defense.

[FR Doc. 2023-28077 Filed 12-20-23; 8:45 am]

BILLING CODE 6001-FR-P